DEPARTMENT OF EDUCATION

[Docket No. ED-2020-SCC-0087]

Agency Information Collection Activities; Submission to the Office of Management and Budget for Review and approval; Comment Request; Comprehensive Literacy Program Evaluation: Comprehensive Literacy State Development (CLSD) Program Evaluation

AGENCY: Institute of Educational Sciences (IES), Department of Education (ED).

ACTION: Notice.

SUMMARY: In accordance with the Paperwork Reduction Act of 1995, ED is proposing a revision of a currently approved collection.

DATES: Interested persons are invited to submit comments on or before January 19, 2021.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Tracy Rimdzius, 202-245-7283.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Comprehensive Literacy Program Evaluation: Comprehensive Literacy State Development (CLSD) Program Evaluation

OMB Control Number: 1850-0945

Type of Review: A revision of a currently approved collection

Respondents/Affected Public: Individuals and Households; State, Local, and Tribal Governments

Total Estimated Number of Annual Responses: 612

Total Estimated Number of Annual Burden Hours: 331

Abstract: The data collection described in this submission includes activities for the legislatively mandated evaluation of the Comprehensive Literacy State Development (CLSD) Program. The evaluation will provide information on the implementation of the program and its impact on student reading achievement. The CLSD evaluation is the second component of an evaluation of the U.S. Department of Education's comprehensive literacy programs. An earlier clearance package (OMB control number 1850-0945) covered the first component of the evaluation—an implementation study of the Striving Readers Comprehensive Literacy Program (the precursor program to CLSD). The CLSD evaluation will include an examination of implementation, a randomized trial to estimate the impact of CLSD funding on teacher and student outcomes, and a longitudinal comparison of trends in achievement in CLSD and similar, non-CLSD schools. This package requests clearance for data collection associated with the implementation analyses, the randomized trial, and initial data collection for the comparisons of longitudinal trends. A separate package will be submitted at a later date for all remaining data collection activities for the comparisons of longitudinal trends, which will take place following the 2023-24 school year.

Dated: December 15, 2020.
Stephanie Valentine,
PRA Coordinator,Strategic Collections and Clearance,Governance and Strategy Division,Office of Chief Data Officer,Office of Planning, Evaluation and Policy Development.

[FR Doc. 2020-27878 Filed 12-17-20; 8:45 am]

BILLING CODE 4000-01-P